ENVIRONMENTAL PROTECTION AGENCY

40 CFR Part 300

[FRL-6886-4]

National Oil and Hazardous Substances Pollution Contingency Plan; National Priorities List

AGENCY: Environmental Protection Agency (EPA).

ACTION: Withdrawal of direct final deletion of the Warwick Landfill Site from the National Priorities List.

SUMMARY: On August 15, 2000, EPA published a direct final deletion (65 FR 49739) to delete the Warwick Landfill Superfund Site (Site) from the National Priorities List. The EPA is withdrawing this final action due to adverse comments that were received during the public comment period. After consideration of the comments received, if appropriate, EPA will publish a notice of deletion in the Federal Register based on the parallel notice of proposed deletion (65 FR 49776 dated August 15, 2000) and place a copy of the final deletion package, including a Responsiveness Summary in the Site repositories.

DATES: The direct final action amending 40 CFR part 300, published on August 15, 2000 (65 FR 49739), is withdrawn as of October 16, 2000.

ADDRESSES: Comprehensive information on the Site, as well as the comments that were received during the comment period, are available through the public docket contained at: U.S. Environmental Protection Agency, Superfund Records Center, Region II, Superfund Records Center, 290 Broadway, Room 1828, New York, New York 10007-1866, (212) 637-4308, Hours: 9:00 a.m. to 5:00 p.m., Monday through Friday.

FOR FURTHER INFORMATION CONTACT: Damian J. Duda, Remedial Project Manager, Emergency and Remedial Response Division, U.S. Environmental Protection Agency, Region II, 290 Broadway, 20th Floor, New York, New York 10007-1866, (212) 637-4269 and Fax: (212) 637-3966.

SUPPLEMENTARY INFORMATION:

Information Repositories

Repositories have been established to provide detailed information concerning this decision at the following addresses: Warwick Town Hall, 132 Kings Highway, Warwick, New York 10990, (914) 986-1120 and the Greenwood Lake Village Hall, Church Street, Greenwood Lake, New York 10925, (914) 477-9215.

Authority: 33 U.S.C. 1321(c)(2); 42 U.S.C. 9601-9657; E.O. 12777, 56 FR 54757, 3 CFR, 1991 Comp., p. 351; E.O. 12580, 52 FR 2923; 3 CFR, 1987 Comp., p. 193.

Dated: October 5, 2000.
William J. Muszynski,
Acting Regional Administrator, Region II.

[FR Doc. 00-26530 Filed 10-13-00; 8:45 am]

BILLING CODE 6560-50-P